DEPARTMENT OF COMMERCE

International Trade Administration

[A-570-868]

Folding Metal Tables and Chairs From the People's Republic of China: Final Results of Antidumping Duty Administrative Review

AGENCY: Import Administration, International Trade Administration, Department of Commerce.

SUMMARY: The Department of Commerce (“Department”) published its Preliminary Results of administrative review of the antidumping duty order on folding metal tables and chairs from the People's Republic of China (“PRC”) on March 7, 2012.¹ The period of review (“POR”) is June 1, 2010, through May 31, 2011. We invited interested parties to comment on our Preliminary Results. Based on our analysis of the comments received, we have made changes to our margin calculations. Therefore, the final results differ from the preliminary results. The final dumping margin for this review is listed in the “Final Results of Review” section below.

¹ See Folding Metal Tables and Chairs From the People's Republic of China: Preliminary Results of Antidumping Duty Administrative Review, 77 FR 13539 (March 7, 2012) (“Preliminary Results”).

DATES: Effective Date: July 5, 2012.

FOR FURTHER INFORMATION CONTACT: Lilit Astvatsatrian or Charles Riggle, AD/CVD Operations, Office 4, Import Administration, International Trade Administration, U.S. Department of Commerce, 14th Street and Constitution Avenue NW., Washington, DC 20230; telephone: (202) 482-6412 or (202) 482-0650, respectively.

Background

On March 7, 2012, the Department published its Preliminary Results. On April 10, 2012, Feili Group (Fujian) Co., Ltd. and Feili Furniture Development Limited Quanzhou City (“Feili”), a mandatory respondent in the administrative review, Cosco Home and Office Products (“Cosco”) and Target Corporation (“Target”), importer interested parties, provided surrogate value information. On April 17, 2012,² Feili, Cosco, and Target submitted case briefs for the administrative review. On April 23, 2012, the Department received a rebuttal brief from Feili.

² The Department postponed the briefing schedule and submission of surrogate values on March 15, 2012.

On April 10, 2012, Meco Corporation, a domestic producer of the like product and petitioner in the underlying investigation (“Petitioner”), withdrew its request for administrative review. On April 13, 2012, Feili and Cosco withdrew their requests for administrative review and requested that the Department rescind the ongoing review. On April 16, 2012, Target filed comments supporting the rescission of the review.³

³ We recognize that Petitioner's original review request, dated June 28, 2011, and the subsequent withdrawal request lacked certification of factual information. However, this lack of certification is of no consequence in continuing the review because we had timely requests from both Feili and Cosco.

We have conducted this administrative review in accordance with section 751 of the Tariff Act of 1930, as amended (“the Act”), 19 CFR 351.241, and 19 CFR 351.213.

Scope of Order

The products covered by the order consist of assembled and unassembled folding tables and folding chairs made primarily or exclusively from steel or other metal, as described below:

(1) Assembled and unassembled folding tables made primarily or exclusively from steel or other metal (folding metal tables). Folding metal tables include square, round, rectangular, and any other shapes with legs affixed with rivets, welds, or any other type of fastener, and which are made most commonly, but not exclusively, with a hardboard top covered with vinyl or fabric. Folding metal tables have legs that mechanically fold independently of one another, and not as a set. The subject merchandise is commonly, but not exclusively, packed singly, in multiple packs of the same item, or in five piece sets consisting of four chairs and one table. Specifically excluded from the scope of the order regarding folding metal tables are the following:

Lawn furniture;

Trays commonly referred to as “TV trays;”

Side tables;

Child-sized tables;

Portable counter sets consisting of rectangular tables 36″ high and matching stools; and, Banquet tables. A banquet table is a rectangular table with a plastic or laminated wood table top approximately 28″ to 36″ wide by 48″ to 96″ long and with a set of folding legs at each end of the table. One set of legs is composed of two individual legs that are affixed together by one or more cross-braces using welds or fastening hardware. In contrast, folding metal tables have legs that mechanically fold independently of one another, and not as a set.

(2) Assembled and unassembled folding chairs made primarily or exclusively from steel or other metal (folding metal chairs). Folding metal chairs include chairs with one or more cross-braces, regardless of shape or size, affixed to the front and/or rear legs with rivets, welds or any other type of fastener. Folding metal chairs include: those that are made solely of steel or other metal; those that have a back pad, a seat pad, or both a back pad and a seat pad; and those that have seats or backs made of plastic or other materials. The subject merchandise is commonly, but not exclusively, packed singly, in multiple packs of the same item, or in five piece sets consisting of four chairs and one table. Specifically excluded from the scope of the order regarding folding metal chairs are the following:

Folding metal chairs with a wooden back or seat, or both;

Lawn furniture;

Stools;

Chairs with arms; and

Child-sized chairs.

The subject merchandise is currently classifiable under subheadings 9401.71.0010, 9401.71.0011, 9401.71.0030, 9401.71.0031, 9401.79.0045, 9401.79.0046, 9401.79.0050, 9403.20.0018, 9403.20.0015, 9403.20.0030, 9403.60.8040, 9403.70.8015, 9403.70.8020, and 9403.70.8031 of the Harmonized Tariff Schedule of the United States (“HTSUS”). Although the HTSUS subheadings are provided for convenience and customs purposes, the Department's written description of the merchandise is dispositive.

Analysis of Comments Received

All issues raised in the post-preliminary comments by parties in this review are addressed in the memorandum from Gary Taverman, Senior Advisor for Antidumping and Countervailing Duty Operations, to Paul Piquado, Assistant Secretary for Import Administration, “Issues and Decision Memorandum for the 2010-2011 Administrative Review of Folding Metal Tables and Chairs from the People's Republic of China” (dated concurrently with this notice) (“Issues and Decision Memorandum”), which is hereby adopted by this notice. A list of the issues that parties raised and to which we responded in the Issues and Decision Memorandum is attached to this notice as an appendix. The Issues and Decision Memorandum is a public document and is on file electronically via Import Administration's Antidumping and Countervailing Duty Centralized Electronic Service System (“IA ACCESS”). Access to IA ACCESS is available in the Central Records Unit (“CRU”), room 7046 of the main Department of Commerce building. In addition, a complete version of the Issues and Decision Memorandum can be accessed directly on the Internet at http://www.trade.gov/ia/. The signed Issues and Decision Memorandum and the electronic versions of the Issues and Decision Memorandum are identical in content.

Changes Since the Preliminary Results

Based on our analysis of comments received, we have made changes in the margin calculations for Feili.

• We included contemporaneous financial statements of two additional Thai producers of comparable merchandise, Silpfah Thai Industrial Limited Partnership and Index Interfurn Co., Ltd., to derive the average surrogate financial ratios.⁴

⁴ See Analysis for the Final Results of the 2010-2011 Administrative Review of Folding Metal Tables and Chairs from the People's Republic of China: Feili Group (Fujian) Co., Ltd. and Feili Furniture Development Limited Quanzhou City (“Feili”), dated concurrently with this notice, at Attachment 5.

• We applied a market-economy purchase price to Feili's factors of production of rivets and revised the value for washers.⁵

⁵ See id,, at Attachment 4.

• We corrected the conversion rate from cubic meters to kilograms in valuing Feili's natural gas.⁶

⁶ See id., at Attachment 3.

Final Results of Review

We determine that the dumping margins for the POR are as follows:

Exporter | Weighted-Average margin
Feili Group (Fujian) Co., Ltd., Feili Furniture Development Limited Quanzhou City | 0.00

Assessment

The Department will determine, and U.S. Customs and Border Protection (“CBP”) shall assess, antidumping duties on all appropriate entries of subject merchandise in accordance with the final results of this review. For assessment purposes, we calculated exporter/importer- (or customer) specific assessment rates for merchandise subject to this review. Where appropriate, we calculated an ad valorem rate for each importer (or customer) by dividing the total dumping margins for reviewed sales to that party by the total entered values associated with those transactions. For duty-assessment rates calculated on this basis, we will direct CBP to assess the resulting ad valorem rate against the entered customs values for the subject merchandise. Where appropriate, we calculated a per-unit rate for each importer (or customer) by dividing the total dumping margins for reviewed sales to that party by the total sales quantity associated with those transactions. For duty-assessment rates calculated on this basis, we will direct CBP to assess the resulting per-unit rate against the entered quantity of the subject merchandise. Where an importer- (or customer) specific assessment rate is de minimis under 19 CFR 351.106(c) (i.e., less than 0.50 percent), the Department will instruct CBP to assess that importer (or customer's) entries of subject merchandise without regard to antidumping duties. The Department intends to issue appropriate assessment instructions directly to CBP 15 days after publication of the final results of these reviews.

Cash Deposit Requirements

The following cash deposit requirements will be effective upon publication of the final results of this administrative review for all shipments of the subject merchandise from the PRC entered, or withdrawn from warehouse, for consumption on or after the publication date, as provided for by section 751(a)(2)(C) of the Act: (1) For Feili, because the rate is zero, no cash deposit will be required; (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate established in the final results of this review (i.e., 70.71 percent); and (4) for all non-PRC exporters of subject merchandise which have not received their own rate, the cash deposit rate will be the rate applicable to the PRC exporters that supplied that non-PRC exporter. These deposit requirements, when imposed, shall remain in effect until further notice.

Notification to Interested Parties

This notice serves as a final reminder to importers of their responsibility under 19 CFR 351.402(f)(2) to file a certificate regarding the reimbursement of antidumping duties prior to liquidation of the relevant entries during the review period. Pursuant to 19 CFR 351.402(f)(3), failure to comply with this requirement could result in the Department's presumption that reimbursement of antidumping duties occurred and the subsequent assessment of doubled antidumping duties.

This notice also serves as a reminder to parties subject to administrative protective order (“APO”) of their responsibility concerning the disposition of proprietary information disclosed under APO as explained in the administrative protective order itself. Timely written notification of the return/destruction of APO materials or conversion to judicial protective order is hereby requested. Failure to comply with the regulations and the terms of an APO is a sanctionable violation.

This notice of the final results of these reviews is issued and published in accordance with sections 751(a)(1) and 777(i) of the Act.

Dated: June 27, 2012.
Paul Piquado,
Assistant Secretary for Import Administration.

APPENDIX

List of Comments and Issues in the Issues and Decision Memorandum

Comment 1: Rescission of the Administrative Review

Comment 2: Selection of the Primary Surrogate Country

Comment 3: Surrogate Financial Statements

A. Use of Silpfah's Financial Statements

B. Use of Interfurn's Financial Statements

C. Treatment of Siam Steel's Expenses

Comment 4: Valuation of Feili Market-Economy Inputs

A. Rivets

B. Washers

Comment 5: Labor Cost

Comment 6: Correction of Certain Clerical Errors

A. Natural Gas

B. Feili's Liquidation Instructions

[FR Doc. 2012-16458 Filed 7-3-12; 8:45 am]

BILLING CODE 3510-DS-P